DEPARTMENT OF AGRICULTURE

Submission for OMB Review; Comment Request

August 6, 2004.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA_ Submission@OMB.EOP.GOV or fax (202 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Farm Service Agency

Title: Application for Payment of Amounts Due Persons Who Have Died, Disappeared or Have Been Declared Incompetent.

OMB Control Number: 0560-0026.

Summary of Collection: Representatives or survivors of producers who die, disappear, or are declared incompetent must be afforded a method of obtaining any payment intended for the producer. 7 CFR 707 provides that form, FSA-325, be used as the application for person desiring to claim such payments. It is necessary to collect information recorded on FSA-325 in order to determine whether representatives or survivors of a producer are entitled to receive payments earned by a producer who dies, disappears, or is declared incompetent before receiving the payment.

Need and Use of the Information: FSA will collect information to determine if the survivors have rights to the existing payments or to the unpaid portions of the producer's payments.

Description of Respondents: Individuals or households; Business or other for-profit; Not-for-profit institutions; State, Local or Tribal Government.

Number of Respondents: 1,000.

Frequency of Responses: Reporting: Other (when necessary).

Total Burden Hours: 1,500.

Farm Service Agency

Title: 7 CFR 1924-B Management Advice to Individuals Borrowers and Applicants.

OMB Control Number: 0560-0154.

Summary of Collection: The Consolidated Farm and Rural Development Act (CONACT) as amended, authorizes the Secretary of Agriculture to make and service direct farm loans to eligible applicants. The collection of information is needed to develop sound farm loan assessments, provide appropriate credit counseling and credit supervision that will assist the Agency's customers toward successful farming/ranching operations.

Need and Use of the Information: FSA will collect information to protect the government's financial interests by ensuring the farming operations of the Agency's direct loan customers be properly assessed for short and long-term financial feasibility and that all customers receive appropriate credit counseling. If the information were not collected, the Agency would be unable to make sound decisions on financial and production feasibility for direct farm loan requests, thus increasing monetary losses to the Government.

Description of Respondents: Farm; Business or other-for-profit; Federal Government; Not-for-profit institutions.

Number of Respondents: 54,081.

Frequency of Responses: Reporting: On occasion.

Total Burden Hours: 143,059.

Farms Service Agency

Title: 7 CFR 1910-A, Receiving and Processing Applications.

OMB Control Number: 0560-0178.

Summary of Collection: Section 302 (7 U.S.C. 1922) and Section 339 (7 U.S.C. 1989) of the Consolidated Farm and Rural Development Act (CONACT) provides authorization to the Secretary to make and insure loans to farmers and ranchers, to prescribe that terms and conditions for making and insuring loans, security instruments and agreements. The Farm Service Agency (FSA) has issued regulations through the Federal Register process to implement the making and servicing of direct loans in chapter 18 of the Code of Federal Regulations.

Need and Use of the Information: FSA will collect information to determine eligibility and financial feasibility of respondent's requests for loans. Without the information, FSA would be unable to make an accurate eligibility and financial feasibility determination on respondent's request for new loans as required by the CONACT.

Description of Respondents: Farm; Individuals or households; businesses or other-for-profit; Federal Government.

Number of Respondents: 17,806.

Frequency of Responses: Reporting: Other (eligibility).

Total Burden Hours: 101,283.

Sondra Blakey,
Departmental Information Collection Clearance Officer.

[FR Doc. 04-18504 Filed 8-12-04; 8:45 am]

BILLING CODE 3410-05-M